DEPARTMENT OF COMMERCE

National Institute of Standards and Technology

National Artificial Intelligence Advisory Committee; Law Enforcement Subcommittee

AGENCY: National Institute of Standards and Technology, Department of Commerce.

ACTION: Notice of open meeting.

SUMMARY: The National Institute of Standards and Technology (NIST) announces that the National Artificial Intelligence Advisory Committee Law Enforcement Subcommittee (NAIAC LE or Subcommittee) will hold an open meeting via web conference on Friday, April 5, 2024, from 3 p.m.-5 p.m. Eastern Time. The primary purpose of this meeting is for the Subcommittee Members to report the working groups' findings, identify actionable recommendations, and discuss updates on goals and deliverables. The final agenda will be posted on the NIST website at https://www.nist.gov/itl/national-artificial-intelligence-advisory-committee-naiac.

DATES: The NAIAC LE will meet on Friday, April 5, 2024, from 3 p.m.-5 p.m. Eastern Time.

ADDRESSES: The meeting will be held via webinar. Please note participation instructions under the SUPPLEMENTARY INFORMATION section of this notice.

FOR FURTHER INFORMATION CONTACT: Cheryl L. Gendron, Designated Federal Officer, Information Technology Laboratory, National Institute of Standards and Technology, Telephone: (301) 975-2785, Email address: cheryl.gendron@nist.gov. Please direct any inquiries to the committee at naiac@nist.gov.

SUPPLEMENTARY INFORMATION: Notice is hereby given that the NAIAC LE will meet as set forth in the DATES section of this notice. The meeting will be open to the public.

The NAIAC LE is authorized by Section 5104 of the National Artificial Intelligence Initiative Act of 2020 (Pub. L. 116-283). The Subcommittee advises the President, through the Committee, on matters associated with the development of artificial intelligence related to law enforcement. Additional information on the NAIAC LE is available at ai.gov/naiac/.

The primary purpose of this meeting is for the Subcommittee Members to report the working groups' findings, identify actionable recommendations, and discuss updates on goals and deliverables.

The agenda may change to accommodate NAIAC LE business. The final agenda will be posted on the NIST website at https://www.nist.gov/itl/national-artificial-intelligence-advisory-committee-naiac.

Comments: Individuals and representatives of organizations who would like to offer comments and suggestions related to items on the Subcommittee's agenda for this meeting are invited to submit comments in advance of the meeting. Please note that all comments submitted via email will be treated as public documents and will be made available for public inspection. All comments must be submitted via email with the subject line April 5, 2024, NAIAC-LE Public Meeting” to naiac@nist.gov by 5 p.m. Eastern Time, April 4, 2024. NIST will not accept comments accompanied by a request that part or all of the comment be treated confidentially because of its business proprietary nature or for any other reason. Therefore, do not submit confidential business information or otherwise sensitive, protected, or personal information, such as account numbers, Social Security numbers, or names of other individuals.

Virtual Meeting Registration Instructions: The meeting will be broadcast via web conference. Registration is required to view the web conference. Instructions on how to register will be made available at https://www.nist.gov/itl/national-artificial-intelligence-advisory-committee-naiac. Registration will remain open until the conclusion of the meeting.

Alicia Chambers,
NIST Executive Secretariat.

[FR Doc. 2024-06168 Filed 3-22-24; 8:45 am]

BILLING CODE 3510-13-P